DEPARTMENT OF ENERGY

Federal Energy Regulatory Commission

Combined Notice of Filings #1

Take notice that the Commission received the following electric corporate filings:

Docket Numbers: EC11-103-000.

Applicants: Duke Energy Ohio, Inc., Duke Energy Commercial Asset Management.

Description: Application of Duke Energy Ohio, Inc., et al.

Filed Date: 08/08/2011.

Accession Number: 20110808-5157.

Comment Date: 5 p.m. Eastern Time on Monday, August 29, 2011.

Take notice that the Commission received the following electric rate filings:

Docket Numbers: ER10-1777-003; ER10-2983-002; ER10-2980-002; ER10-2988-003.

Applicants: Thompson River Power, LLC, Castleton Power, LLC, Sundevil Power Holdings, LLC, Castleton Energy Services, LLC.

Description: Notification of Change in Status of Sundevil Power Holdings, LLC, et al.

Filed Date: 08/08/2011.

Accession Number: 20110808-5155.

Comment Date: 5 p.m. Eastern Time on Monday, August 29, 2011.

Docket Numbers: ER11-2051-001.

Applicants: Pure Energy Inc.

Description: Pure Energy Inc. submits tariff filing per 35: Order 697 Compliance Filing to be effective 11/9/2010.

Filed Date: 08/08/2011.

Accession Number: 20110808-5035.

Comment Date: 5 p.m. Eastern Time on Monday, August 29, 2011.

Docket Numbers: ER11-4248-000.

Applicants: Midwest Independent Transmission System Operator, Inc., ITC Midwest LLC.

Description: Midwest Independent Transmission System Operator, Inc. submits tariff filing per 35.13(a)(2)(iii: Filing of Notice of Succession to be effective 10/8/2011.

Filed Date: 08/08/2011.

Accession Number: 20110808-5015.

Comment Date: 5 p.m. Eastern Time on Monday, August 29, 2011.

Docket Numbers: ER11-4249-000.

Applicants: Midwest Independent Transmission System Operator, Inc., ITC Midwest LLC.

Description: Midwest Independent Transmission System Operator, Inc. submits tariff filing per 35.13(a)(2)(iii: Filing of Notice of Succession to be effective 10/8/2011.

Filed Date: 08/08/2011.

Accession Number: 20110808-5017.

Comment Date: 5 p.m. Eastern Time on Monday, August 29, 2011.

Docket Numbers: ER11-4250-000.

Applicants: Midwest Independent Transmission System Operator, Inc., ITC Midwest LLC.

Description: Midwest Independent Transmission System Operator, Inc. submits tariff filing per 35.13(a)(2)(iii: Filing of Notice of Succession to be effective 10/8/2011.

Filed Date: 08/08/2011.

Accession Number: 20110808-5018.

Comment Date: 5 p.m. Eastern Time on Monday, August 29, 2011.

Docket Numbers: ER11-4251-000.

Applicants: Midwest Independent Transmission System Operator, Inc., ITC Midwest LLC.

Description: Midwest Independent Transmission System Operator, Inc. submits tariff filing per 35.13(a)(2)(iii: Filing of Notice of Succession to be effective 10/8/2011.

Filed Date: 08/08/2011.

Accession Number: 20110808-5020.

Comment Date: 5 p.m. Eastern Time on Monday, August 29, 2011.

Docket Numbers: ER11-4252-000.

Applicants: Midwest Independent Transmission System Operator, Inc., ITC Midwest LLC.

Description: Midwest Independent Transmission System Operator, Inc. submits tariff filing per 35.13(a)(2)(iii: Filing of Notice of Succession to be effective 10/8/2011.

Filed Date: 08/08/2011.

Accession Number: 20110808-5024.

Comment Date: 5 p.m. Eastern Time on Monday, August 29, 2011.

Docket Numbers: ER11-4253-000.

Applicants: Wolverine Power Supply Cooperative, Inc.

Description: Wolverine Power Supply Cooperative, Inc. submits tariff filing per 35.13(a)(2)(iii: Certificates of Concurrence for Pere Marquette, Sternberg & Vestaburg IFAs to be effective 4/21/2011.

Filed Date: 08/08/2011.

Accession Number: 20110808-5030.

Comment Date: 5 p.m. Eastern Time on Monday, August 29, 2011.

Docket Numbers: ER11-4254-000.

Applicants: New England Power Company.

Description: New England Power Company submits tariff filing per 35.13(a)(2)(iii: Interconnection Agreement with Lowell Cogeneration to be effective 10/1/2011.

Filed Date: 08/08/2011.

Accession Number: 20110808-5093.

Comment Date: 5 p.m. Eastern Time on Monday, August 29, 2011.

Docket Numbers: ER11-4255-000.

Applicants: Southern California Edison Company.

Description: Southern California Edison Company submits tariff filing per 35.13(a)(2)(iii: LGIA North Sky River Wind Project—North Sky River Energy LLC to be effective 8/9/2011.

Filed Date: 08/08/2011.

Accession Number: 20110808-5126.

Comment Date: 5 p.m. Eastern Time on Monday, August 29, 2011.

Docket Numbers: ER11-4256-000.

Applicants: Southern California Edison Company.

Description: Southern California Edison Company submits tariff filing per 35.13(a)(2)(iii: LGIA Amendment to Walnut Creek Energy Park Project to be effective 8/9/2011.

Filed Date: 08/08/2011.

Accession Number: 20110808-5144.

Comment Date: 5 p.m. Eastern Time on Monday, August 29, 2011.

Docket Numbers: ER11-4257-000.

Applicants: New York Independent System Operator, Inc.

Description: New York Independent System Operator, Inc. submits tariff filing per 35.13(a)(2)(iii: NYISO Tariff Revisions re: Bidding, Scheduling, Settlement of Ancillary Services to be effective 10/7/2011.

Filed Date: 08/08/2011.

Accession Number: 20110808-5146.

Comment Date: 5 p.m. Eastern Time on Monday, August 29, 2011.

Docket Numbers: ER11-4258-000.

Applicants: Desert View Power, Inc.

Description:Desert View Power, Inc. submits tariff filing per 35.13(a)(2)(iii: Notice of Succession to be effective 10/7/2011.

Filed Date: 08/08/2011.

Accession Number: 20110808-5163.

Comment Date: 5 p.m. Eastern Time on Monday, August 29, 2011.

Docket Numbers: ER11-4259-000.

Applicants: Midwest Independent Transmission System Operator, Inc., ITC Midwest LLC.

Description: Midwest Independent Transmission System Operator, Inc. submits tariff filing per 35.13(a)(2)(iii: Notice of Succession to Interconnection Agreement to be effective 10/8/2011.

Filed Date: 08/08/2011.

Accession Number: 20110808-5190.

Comment Date: 5 p.m. Eastern Time on Monday, August 29, 2011.

Docket Numbers: ER11-4260-000.

Applicants: Elk Hills Power, LLC.

Description: Elk Hills Power, LLC submits tariff filing per 35.13(a)(2)(iii: Notice of Category 1 Seller Status and Revised Market-Based Rate Tariff to be effective 8/9/2011.

Filed Date: 08/08/2011.

Accession Number: 20110808-5191.

Comment Date: 5 p.m. Eastern Time on Monday, August 29, 2011.

Docket Numbers: ER11-4261-000.

Applicants: Midwest Independent Transmission System Operator, Inc., ITC Midwest LLC.

Description: Midwest Independent Transmission System Operator, Inc. submits tariff filing per 35.13(a)(2)(iii: Notice of Succession for Interconnection Agreement to be effective 10/8/2011.

Filed Date: 08/08/2011.

Accession Number: 20110808-5192.

Comment Date: 5 p.m. Eastern Time on Monday, August 29, 2011.

Docket Numbers: ER11-4262-000.

Applicants: Puget Sound Energy, Inc.

Description: Puget Sound Energy, Inc. submits tariff filing per 35.1: Residential Purchase and Sale Agreement to be effective 10/1/2011.

Filed Date: 08/08/2011.

Accession Number: 20110808-5193.

Comment Date: 5 p.m. Eastern Time on Monday, August 29, 2011.

Docket Numbers: ER11-4263-000.

Applicants: Midwest Independent Transmission System Operator, Inc., ITC Midwest LLC.

Description: Midwest Independent Transmission System Operator, Inc. submits tariff filing per 35.13(a)(2)(iii: Filing of Notice of Succession to be effective 10/8/2011.

Filed Date: 08/08/2011.

Accession Number: 20110808-5194.

Comment Date: 5 p.m. Eastern Time on Monday, August 29, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2011.
Kimberly D. Bose,
Secretary.

[FR Doc. 2011-20890 Filed 8-16-11; 8:45 am]

BILLING CODE 6717-01-P